DEPARTMENT OF THE INTERIOR

Bureau of Land Management

[LLAZ910000.L12100000.XP0000 19X 6100.241A]

State of Arizona Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management (BLM), Arizona Resource Advisory Council (RAC) will meet as indicated below.

DATES: The RAC will hold a one-day virtual public meeting on July 22, 2021. The meeting will begin at 8:15 a.m. and adjourn at approximately 4:00 p.m. BLM staff will initiate the meeting at 8:00 a.m. to allow for check-in and technical assistance with the virtual platform.

ADDRESSES: The meeting will be held virtually. The meeting link will be made available at least one week before the meeting date on the RACs web page at https://www.blm.gov/get-involved/resource-advisory-council/near-you/arizona.

FOR FURTHER INFORMATION CONTACT: Dolores Garcia, Public Affairs Specialist, at the BLM, Arizona State Office, One North Central Avenue, Suite 800, Phoenix, Arizona, 85004-4427, telephone: 602-417-9241, or email: dagarcia@blm.gov. Persons who use a telecommunications device for the deaf (TDD) may call the Federal Relay Service (FRS) at 1-800-877-8339 to contact Ms. Garcia during normal business hours. The FRS is available 24 hours a day, 7 days a week, to leave a message or question. You will receive a reply during normal business hours.

Individuals who need special assistance, such as sign language interpretation or other reasonable accommodations, should contact Dolores Garcia no later than 2 weeks before the start of the meeting.

SUPPLEMENTARY INFORMATION: The 15-member Council advises the Secretary of the Interior, through the BLM, on a variety of planning and management issues associated with public land management in Arizona.

Agenda items will include updates on Department of the Interior priorities; Lands, Minerals and Energy Update, including an update on Renewable Energy; Natural Resources and Conservation Update; Recreation and Maintenance Update; and District Updates. The final agenda will be posted on the BLM Arizona RAC website at: https://www.blm.gov/get-involved/resource-advisory-council/near-you/arizona.

The meetings are open to the public, and a public comment period will be held. Depending on the number of persons wishing to comment and the time available, time allotted for individual oral comments may be limited. Written comments may be submitted in advance of the meeting to the BLM address [see FOR FURTHER INFORMATION CONTACT] or via email to dagarcia@blm.gov. Please include “RAC Comment” in your submission. All comments received will be provided to the Arizona RAC.

Before including your address, phone number, email address, or other personal identifying information in your comment, you should be aware that your entire comment—including your personal identifying information—may be made publicly available at any time. While you can ask us in your comment to withhold your personal identifying information from public review, we cannot guarantee that we will be able to do so.

Detailed meeting minutes for the RAC meetings will be maintained in the BLM's Arizona State Office and will be available for public inspection and reproduction during regular business hours within 30 days following the meeting. Previous minutes, membership information, and upcoming agendas are available at: https://www.blm.gov/get-involved/resource-advisory-council/near-you/arizona.

Authority: 43 CFR 1784.4-2.

Raymond Suazo,
Arizona State Director.

[FR Doc. 2021-10473 Filed 5-18-21; 8:45 am]

BILLING CODE 4310-32-P